ENVIRONMENTAL PROTECTION AGENCY

40 CFR PART 52

[FRL-9767-5]

Notice of Approval of Clean Air Act Outer Continental Shelf Minor Source/Title V Minor Permit Modification Issued to Shell Offshore, Inc. for the Kulluk Conical Drilling Unit

AGENCY: United States Environmental Protection Agency (EPA).

ACTION: Notice of final action.

SUMMARY: This notice announces that EPA Region 10 has issued a final decision granting Shell Offshore Inc.'s (“Shell”) request for minor modifications of Clean Air Act Outer Continental Shelf (“OCS”) Minor Source/Title V Permit No. R10OCS03000 (“permits”). The permits authorize air emissions associated with Shell's operation of the Kulluk Conical Drilling Unit (“Kulluk”) in the Beaufort Sea to conduct exploratory oil and gas drilling.

DATES: January 9, 2013.

ADDRESSES: The documents relevant to the above-referenced permits are available for public inspection during normal business hours at the following address: U.S. Environmental Protection Agency, Region 10, 1200 Sixth Avenue, Suite 900, AWT-107, Seattle, WA 98101. To arrange for viewing of these documents, call Natasha Greaves at (206) 553-7079.

FOR FURTHER INFORMATION CONTACT: Natasha Greaves, Office of Air Waste and Toxics, U.S. Environmental Protection Agency, Region 10, 1200 6th Avenue, Suite 900, AWT-107, Seattle, WA 98101.

SUPPLEMENTARY INFORMATION: EPA Region 10 issued a final decision on the minor modifications of the permits on September 28, 2012. The modified permits also became effective on that date, and the 30-day period provided by 40 CFR 71.11(l) to file with the Environmental Appeals Board (“EAB”) a petition to review the minor modifications of the permits ended on October 29, 2012. Pursuant to section 307(b)(1) of the Clean Air Act, 42 U.S.C. 7607(b)(1), judicial review of these final permit decisions, to the extent it is available, may be sought by filing a petition for review in the United States Court of Appeals for the Ninth Circuit within 60 days of January 9, 2013.

On April 12, 2012, EPA issued a final decision on the permits which authorize air emissions from Shell's operation of the Kulluk in the Beaufort Sea to conduct exploratory drilling. Shell submitted an application to EPA Region 10 requesting minor modifications of the permits on July 5, 2012. EPA Region 10 reviewed and issued the requested minor modifications of the permits on September 28, 2012.

All conditions of the Kulluk permit, issued by EPA on September 28, 2012, are final and effective.

Dated: November 6, 2012.
Kate Kelly,
Director, Office of Air, Waste & Toxics, Region 10.

[FR Doc. 2012-31649 Filed 1-8-13; 8:45 am]

BILLING CODE 6560-50-P